DEPARTMENT OF HEALTH AND HUMAN SERVICES

National Institutes of Health

Center for Scientific Review; Cancellation of Meeting

Notice is hereby given of the cancellation of the Center for Scientific Review Special Emphasis Panel, June 3, 2008, 3 p.m. to June 3, 2008, 4 p.m., National Institutes of Health, 6701 Rockledge Drive, Bethesda, MD 20892 which was published in the Federal Register on May 15, 2008, 73 FR 28122-28123.

The meeting was cancelled due to administration problems.

Dated: May 27, 2008.
Jennifer Spaeth,
Director, Office of Federal Advisory Committee Policy.

[FR Doc. E8-12281 Filed 6-4-08; 8:45 am]

BILLING CODE 4140-01-M